DEPARTMENT OF JUSTICE

Antitrust Division

Notice Pursuant to the National Cooperative Research and Production Act of 1993—Allseen Alliance, Inc.

Notice is hereby given that, on May 1, 2015, pursuant to Section 6(a) of the National Cooperative Research and Production Act of 1993, 15 U.S.C. 4301 et seq. (“the Act”), AllSeen Alliance, Inc. (“AllSeen Alliance”) has filed written notifications simultaneously with the Attorney General and the Federal Trade Commission disclosing changes in its membership. The notifications were filed for the purpose of extending the Act's provisions limiting the recovery of antitrust plaintiffs to actual damages under specified circumstances. Specifically, Faber S.p.A., Fabriano, ITALY; Elica S.p.A, Fabriano, ITALY; CenturyLink, Denver, CO; Sichuan Changhong Electric Co., Ltd., Mianyang, Sichuan, PEOPLE'S REPUBLIC OF CHINA; WiSilica, Aliso Viejo, CA; Heaven Fresh Canada Inc., Mississauga, Ontario, CANADA; Cirrent, Burlingame, CA; Ciseco, Wireless Things, Nottingham, UNITED KINGDOM; Covata Limited, Reston, VA; People Power Company, Palo Alto, CA; Seed Labs, San Francisco, CA; Umbrela Smart Inc. (USI), Winnipeg, Manitoba, CANADA; Universal Devices, Inc., Encino, CA; Trend Micro Incorporated, Taipei, TAIWAN; IOOOTA, Bologna, ITALY; Carvoyant, Inc., Odessa, FL; iGloo Software Pty Ltd., West Melbourne, AUSTRALIA; WAYGUM, INC., Dublin, CA; CoCo Communication, Seattle, WA; Allwinner Technology, Co. Ltd., Zhuhai Guangdong, PEOPLE'S REPUBLIC OF CHINA; Unizyx Holding Corporation, Hsinchu, TAIWAN; Discretix Technologies Ltd., Kfar Netter, ISRAEL; Shenzhen Longsys Electronics Co., Ltd., Shenzhen, PEOPLE'S REPUBLIC OF CHINA; Canon Inc., Tokyo, JAPAN; Renesas Electronics Corporation, Chiyoda-ku, Tokyo, JAPAN; DigCert, Inc., Lehi, UT; TTA (Telecommunications Technology Association), Seongnam-City, Gyeonggi-do, REPUBLIC OF KOREA; Affectio Inc., Wilmington, DE; Viva Labs AS, Oslo, NORWAY; Homeboy, Mosman, AUSTRALIA; Encored Technologies, Inc., Gangnamgu, Seoul, REPUBLIC OF KOREA; DataArt Solutions, Inc. DBA: DeviceHive, New York, NY; anyractive, Mapo-gu, Seoul, REPUBLIC OF KOREA; WigWag Inc., Austin, TX, Skeed Co. Ltd., Meguro-ku, Tokyo, JAPAN; ASUSTek.Computer Inc., Beitou District, Taipei, TAIWAN; Infobright Inc., Toronto, Ontario, CANADA; and Hisilicon Technologies Co., Ltd., Longgang District, Shenzhen, PEOPLE'S REPUBLIC OF CHINA, have been added as parties to this venture.

Also, Devon alli, Atlanta, GA, has withdrawn as a party to this venture.

No other changes have been made in either the membership or planned activity of the group research project. Membership in this group research project remains open, and AllSeen Alliance intends to file additional written notifications disclosing all changes in membership.

On January 29, 2014, AllSeen Alliance filed its original notification pursuant to Section 6(a) of the Act. The Department of Justice published a notice in the Federal Register pursuant to Section 6(b) of the Act on March 4, 2014 (79 FR 12223).

The last notification was filed with the Department on February 9, 2015. A notice was published in the Federal Register pursuant to Section 6(b) of the Act on March 12, 2015 (80 FR 13026).

Patricia A. Brink,
Director of Civil Enforcement, Antitrust Division.

[FR Doc. 2015-13447 Filed 6-2-15; 8:45 am]

BILLING CODE P